SECURITIES AND EXCHANGE COMMISSION

[OMB Control No. 3235-0645]

Submission for OMB Review; Comment Request; Extension: Interactive Data

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

The “Interactive Data” collection of information requires issuers filing registration statements under the Securities Act of 1933 (15 U.S.C. 77a et seq.) (“Securities Act”) and reports under the Securities Exchange Act of 1934 (15 U.S.C. 78a et seq.) (“Exchange Act”) to submit specified financial information to the Commission in interactive data format using eXtensible Business Reporting Language (XBRL). This collection of information is located primarily in registration statement and report exhibit provisions, which require interactive data, and Rule 405 of Regulation S-T (17 CFR 232.405), which specifies how to submit interactive data. The exhibit provisions are in Item 601(b)(101) of Regulation S-K (17 CFR 229.601(b)(101)), Form F-10 under the Securities Act (17 CFR 239.40), and Forms 20-F, 40-F, and 6-K under the Exchange Act (17 CFR 249.220f, 17 CFR 249.240f, and 17 CFR 249.306).

In interactive data format, financial statement information can be downloaded directly into spreedsheets and analyzed in a variety of ways using commercial off-the-shelf software. The specified financial information already is and will continue to be required to be submitted to the Commission in traditional format under existing requirements. The purpose of the interactive data requirement is to make financial information easier for investors to analyze and assist issuers in automating regulatory filings and business information processing. The information required by the Internactive Data collection is mandatory. This information is publicly available on EDGAR. We estimate that 8,218 respondents per year will each submit an average of 4.5 reponses per year for an estimated total of 36,981 responses annually. We further estimate an internal burden of 53.11111 hours per response for a total internal burden of 1,964,102 hours (53.11111 hours per response × 36,981 responses).

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

The public may view and comment on this information collection request at: https://www.reginfo.gov/public/do/PRAViewICR?ref_nbr=202502-3235-014 or email comment to MBX.OMB.OIRA .SEC_desk_officer@omb.eop.gov within 30 days of the day after publication of this notice, by July 25, 2025.

Dated: June 18, 2025.
Sherry R. Haywood,
Assistant Secretary.

[FR Doc. 2025-11509 Filed 6-23-25; 8:45 am]

BILLING CODE 8011-01-P